DEPARTMENT OF COMMERCE

International Trade Administration

[A-570-053, A-570-073]

Certain Aluminum Foil and Common Alloy Aluminum Sheet From the People's Republic of China: Correction to Final Results of Antidumping Duty Changed Circumstances Reviews

AGENCY: Enforcement and Compliance, International Trade Administration, Department of Commerce.

SUMMARY: The Department of Commerce (Commerce) is correcting the final results of antidumping duty changed circumstances reviews (CCRs) of certain aluminum foil (aluminum foil) and common alloy aluminum sheet (aluminum sheet) from the People's Republic of China (China) to state the correct cash deposit requirements.

DATES: Applicable June 11, 2020.

FOR FURTHER INFORMATION CONTACT: Joshua DeMoss, AD/CVD Operations, Office VI, Enforcement and Compliance, International Trade Administration, U.S. Department of Commerce, 1401 Constitution Avenue NW, Washington, DC 20230; telephone: (202) 482-3362.

SUPPLEMENTARY INFORMATION: On May 22, 2020, Commerce published the Final Results of the antidumping duty CCRs of aluminum foil and aluminum sheet from China.¹ In the Final Results, Commerce inadvertently stated that Commerce would instruct U.S. Customs and Border Protection to suspend liquidation of all shipments of subject merchandise produced or exported by Shanghai Huafon Aluminium Corporation (Shanghai Huafon).² Commerce is correcting the Final Results to clarify that Commerce will instruct U.S. Customs and Border Protection to suspend liquidation of all shipments of subject merchandise produced and exported by Shanghai Huafon and entered, or withdrawn from warehouse, for consumption on or after the publication date of the Final Results at 73.66 percent for aluminum foil, and at 49.85 percent for aluminum sheet. These cash deposit requirements shall remain in effect until further notice.

¹ See Certain Aluminum Foil and Common Alloy Aluminum Sheet from the People's Republic of China: Final Results of Antidumping Duty Changes Circumstances Reviews and Rescission of Countervailing Duty Changed Circumstances Reviews,85 FR 31144 (May 22, 2020) (Final Results).

² Id.,85 FR at 31145 (Emphasis added).

This correction to the Final Results is published in accordance with sections 751(b)(1) and 736(a) of the Tariff Act of 1930, as amended.

Dated: June 5, 2020.
Jeffrey I. Kessler,
Assistant Secretary for Enforcement and Compliance.

[FR Doc. 2020-12641 Filed 6-10-20; 8:45 am]

BILLING CODE 3510-DS-P